DEPARTMENT OF HEALTH AND HUMAN SERVICES

HIT Policy Committee's Meaningful Use Workgroup Meetings; Notice of Meetings and Request for Comments

AGENCY: Office of the National Coordinator for Health Information Technology, HHS.

ACTION: Notice of Meetings and request for comments.

This notice announces the forthcoming subcommittee meetings of a Federal advisory committee of the Office of the National Coordinator for Health Information Technology (ONC). The meeting will be open to the public.

Name of Subcommittee: HIT Policy Committee Meaningful Use Workgroup.

General Function of the Subcommittee: to provide recommendations to the HIT Policy Committee on recommendations it should consider issuing to the National Coordinator on future stages of meaningful use.

Date and Time: The Meaningful Use Workgroup will hold the following public meetings between January and March (dates past March have not yet been determined):

• Tuesday, March 8, 2011, 10 a.m. to 1 p.m./EDT;

• Tuesday, March 22, 2011, 10 a.m. to 1 p.m./EDT;

• Early April, 2011, date and time TBD.

Location: All workgroup meetings will be available via webcast; visit http://healthit.hhs.gov for instructions on how to listen via telephone or Web. Please check the ONC Web site for additional information as it becomes available.

Contact Person: Judy Sparrow, Office of the National Coordinator, HHS, 330 C Street, SW., Washington, DC 20201, 202-205-4528, Fax: 202-690-6079, e-mail: judy.sparrow@hhs.gov. Please call the contact person for up-to-date information on these meetings. A notice in the Federal Register about last minute modifications that affect a previously announced advisory committee meeting cannot always be published quickly enough to provide timely notice.

Agenda: At each meeting, the Meaningful Use Workgroup will engage in discussions regarding the recommendations it should make to the HIT Policy Committee relative to meaningful use Stage 2.

Procedure: In order to inform its deliberations, the Meaningful Use Workgroup is seeking comments particularly on proposed stage 2 measures from the public on a draft document of preliminary recommendations it has developed. Please refer to ONC's Web site at http://healthit.hhs.gov to access this draft document and for more information about how to submit comments.

Persons attending ONC's advisory committee meetings are advised that the agency is not responsible for providing access to electrical outlets.

ONC welcomes the attendance of the public at its advisory committee meetings. Seating is limited at the location, and ONC will make every effort to accommodate persons with physical disabilities or special needs. If you require special accommodations due to a disability, please contact Judy Sparrow at least seven (7) days in advance of the meeting.

ONC is committed to the orderly conduct of its advisory committee meetings. Please visit our Web site at http://healthit.hhs.gov for procedures on public conduct during advisory committee meetings.

Notice of this meeting is given under the Federal Advisory Committee Act (Pub. L. 92-463, 5 U.S.C., App. 2).

Dated: January 11, 2011.
Judith Sparrow,
Office of Programs and Coordination, Office of the National Coordinator for Health Information Technology.

[FR Doc. 2011-885 Filed 1-12-11; 4:15 pm]

BILLING CODE 4150-45-P